DEPARTMENT OF STATE

[Public Notice: 11425]

Determination Under Subsection 402(d)(1) of the Trade Act of 1974, As Amended—Continuation of Waiver Authority

Pursuant to the authority vested in the President under the Trade Act of 1974, as amended, Public Law 93-618, 88 Stat. 1978 (hereinafter “the Act”), and assigned to the Secretary of State by virtue of Section 1(a) of Executive Order 13346 of July 8, 2004, and delegated by Department of State Delegation of Authority 245-2, of July 31, 2017, I determine, pursuant to Section 402(d)(1) of the Act, 19 U.S.C. 2432(d)(1), that the further extension of the waiver authority granted by Section 402 of the Act will substantially promote the objectives of Section 402 of the Act. I further determine that continuation of the waiver applicable to Turkmenistan will substantially promote the objectives of Section 402 of the Act.

This Determination shall be published in the Federal Register.

Dated: April 13, 2021.
Daniel Smith,
Acting Deputy Secretary of State.

[FR Doc. 2021-10468 Filed 5-17-21; 8:45 am]

BILLING CODE 4710-46-P